DEPARTMENT OF HEALTH AND HUMAN SERVICES

Meeting: National Committee on Vital and Health Statistics

AGENCY: Centers for Disease Control and Prevention, Health and Human Services.

ACTION: Notice of meeting.

SUMMARY: Pursuant to the Federal Advisory Committee Act, the Department of Health and Human Services (HHS) announces the following advisory committee meeting: National Committee on Vital and Health Statistics (NCVHS), Meeting of the Full Committee. This meeting is open to the public. The public is welcome to obtain the link to attend this meeting by following the instructions that will be posted here prior to the meeting: https://ncvhs.hhs.gov/meetings/full-committee-meeting-8/.

DATES: The meeting will be held Thursday, September 9, 2021: 10:30 a.m.-5:00 p.m. EST and Friday, September 10, 2021: 10:30 a.m.-5:00 p.m. EST

ADDRESSES: Virtual open meeting.

FOR FURTHER INFORMATION CONTACT: Substantive program information may be obtained from Rebecca Hines, MHS, Executive Secretary, NCVHS, National Center for Health Statistics, Centers for Disease Control and Prevention, 3311 Toledo Road, Hyattsville, Maryland 20782, or via electronic mail to vgh4@cdc.gov; or by telephone (301) 458-4715. Summaries of meetings and a roster of Committee members are available on the home page of the NCVHS website, https://ncvhs.hhs.gov/, where further information including an agenda and instructions to access the broadcast of the meeting will be posted.

Should you require reasonable accommodation, please contact the CDC Office of Equal Employment Opportunity on (770) 488-3210 as soon as possible.

SUPPLEMENTARY INFORMATION:

Purpose: As outlined in its Charter, the National Committee on Vital and Health Statistics assists and advises the Secretary of HHS on health data, data standards, statistics, privacy, national health information policy, and the Department's strategy to best address those issues. This includes the adoption and implementation of transaction standards, unique identifiers, operating rules and code sets adopted under the Health Insurance and Portability Act of 1996 (HIPAA).¹ At this meeting, the Committee will receive updates from HHS officials, hold discussions on current health data policy topics, and discuss its work plan for the upcoming period.

¹ Public Law 104-191, 110 Stat. 1936 (Aug 21, 1996), available at https://www.congress.gov/104/plaws/publ191/PLAW-104publ191.pdf.

The Subcommittee on Standards will bring forward a letter that outlines a set of recommendations for HHS actions regarding the 11th Revision of the International Classification of Diseases (ICD-11) for the Committee's consideration. In addition, the Subcommittee will update the full Committee on the August 25 Listening Session on Healthcare Standards Development, Adoption and Implementation, and how the input received from that session, as well as from an extended public comment period, is informing the Subcommittee's “Convergence 2.0” project. The Subcommittee on Privacy, Confidentiality & Security will update the Committee regarding the July 14 hearing on Security in Healthcare and on its project to examine considerations for data collection and use during a public health emergency. The Committee also will discuss a potential project that would assess current standards and practices for reporting race and ethnicity data and sexual orientation and gender identity (SOGI) data.

The Committee will reserve time for public comment toward the end of the schedule on both days. Meeting times and topics are subject to change. Please refer to the agenda posted at the NCVHS website for this meeting https://ncvhs.hhs.gov/meetings/full-committee-meeting-8/ for any updates.

Sharon Arnold,
Associate Deputy Assistant Secretary for Planning and Evaluation, Science and Data Policy, Office of the Assistant Secretary for Planning and Evaluation.

[FR Doc. 2021-17809 Filed 8-18-21; 8:45 am]

BILLING CODE 4150-05-P